DEPARTMENT OF COMMERCE

National Oceanic and Atmospheric Administration

RIN 0648-XG097

Meeting of the Columbia Basin Partnership Task Force of the Marine Fisheries Advisory Committee

AGENCY: National Marine Fisheries Service (NMFS), National Oceanic and Atmospheric Administration (NOAA), Department of Commerce.

ACTION: Notice of open public meeting.

SUMMARY: This notice sets forth the proposed schedule and agenda of a forthcoming meeting of the Marine Fisheries Advisory Committee's (MAFAC's) Columbia Basin Partnership Task Force (CBP Task Force). The CBP Task Force will discuss the issues outlined in the SUPPLEMENTARY INFORMATION below.

DATES: The meeting will be held April 18, 2018, from 8 a.m. to 5 p.m. and on April 19, 2018, from 8 a.m. to 4 p.m.

ADDRESSES: The meeting will be held at the Downtown Embassy Suites, 319 SW Pine St., Portland, OR 97204; 503-279-9000.

FOR FURTHER INFORMATION CONTACT: Katherine Cheney; NFMS West Coast Region; 503-231-6730; email: Katherine.Cheney@noaa.gov.

SUPPLEMENTARY INFORMATION: Notice is hereby given of a meeting of MAFAC's CBP Task Force. The MAFAC was established by the Secretary of Commerce (Secretary) and, since 1971, advises the Secretary on all living marine resource matters that are the responsibility of the Department of Commerce. The MAFAC charter and summaries of prior MAFAC meetings are located online at https://www.fisheries.noaa.gov/topic/partners#marine-fisheries-advisory-committee-. The CBP Task Force reports to MAFAC and is being convened to discuss and develop recommendations for long-term goals to meet Columbia Basin salmon recovery, conservation needs, and harvest opportunities. These goals will be developed in the context of habitat capacity and other factors that affect salmon mortality. More information is available at the CBP Task Force web page: http://www.westcoast.fisheries.noaa.gov/columbia_river/index.html.

Matters To Be Considered

The meeting time and agenda are subject to change. Updated information will be available on the CBP Task Force web page above. Meeting topics include consideration of draft quantitative goals for most Columbia Basin species and discussing approaches to integrating goals across species to develop recommendations for basin-wide goals.

The meeting is open to the public as observers, and public input will be accepted on April 19, 2018, from 1:15 to 1:45 p.m., limited to the time available.

Special Accommodations

The meeting is physically accessible to people with disabilities. Requests for sign language interpretation or other auxiliary aids should be directed to Katherine Cheney, 503-231-6730, by April 9, 2018.

Dated: March 27, 2018.
Jennifer L. Lukens,
Director, Office of Policy, National Marine Fisheries Service.

[FR Doc. 2018-06470 Filed 3-29-18; 8:45 am]

BILLING CODE 3510-22-P